DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5 P.M. in Room 4211, U.S. Department of Commerce, 14th Street and Constitution Avenue, NW., Washington, DC.

Docket Number: 01-011. Applicant: The Burnham Institute, 10901 North Torrey Pines Road, Building #7, La Jolla, CA 92037. Instrument: Brain Slice Physiology Setup. Manufacturer: Luigs and Neumann, Germany. Intended Use: The instrument is intended to be used to prepare acute slices of the rat and mouse brain. These slices will then be visualized under the microscope, microelectrodes will be inserted into single, optically identified nerve cells and stimulation electrodes placed in other identified regions of the brain slice. The main research objective is to understand neuronal information acquisition, processing and storage in the mammalian brain under physiological and pathological conditions. A main focus will be on brain structures involved in sensory perception, memory storage and motor control. In addition, the instrument will be used for guided research training for graduate and undergraduate students in the course BISP 199. Application accepted by Commissioner of Customs: May 4, 2001.

Gerald A. Zerdy,
Program Manager, Statutory Import Programs Staff.

[FR Doc. 01-14651 Filed 6-8-01; 8:45 am]

BILLING CODE 3510-DS-P